DEPARTMENT OF COMMERCE

Foreign-Trade Zones Board

[B-56-2017]

Foreign-Trade Zone (FTZ) 122—Corpus Christi, Texas; Notification of Proposed Production Activity, voestalpine Texas, LLC, Subzone 122T (Hot Briquetted Iron and By-Products), Portland, Texas

The Port of Corpus Christi Authority, grantee of FTZ 122, submitted a notification of proposed production activity to the FTZ Board on behalf of voestalpine Texas, LLC (voestalpine), located in Portland, Texas. The notification conforming to the requirements of the regulations of the FTZ Board (15 CFR 400.22) was received on August 18, 2017.

voestalpine already has authority to produce hot briquetted iron (HBI) and related by-products using certain foreign-status materials within Subzone 122T. voestalpine has a pending production notification requesting to expand its scope of authority (B-42-2017, 82 FR 30821, July 3, 2017). The current request would add a foreign-status material to the scope of authority. Pursuant to 15 CFR 400.14(b), additional FTZ authority would be limited to the specific foreign-status material described in the submitted notification (as described below) and subsequently authorized by the FTZ Board.

Production under FTZ procedures could exempt voestalpine from customs duty payments on the foreign-status lump iron ore used in export production. On its domestic sales, for foreign-status lump iron ore (duty free), voestalpine would be able to choose the duty rates during customs entry procedures that apply to HBI and certain by-products: Iron sludge, recycled iron briquettes, direct reduction remet, iron fines, and HBI fines (for which voestalpine's request for authority is currently pending) (duty free). voestalpine would be able to avoid duty on foreign-status components which become scrap/waste. Customs duties also could possibly be deferred or reduced on foreign-status production equipment.

Public comment is invited from interested parties. Submissions shall be addressed to the Board's Executive Secretary at the address below. The closing period for their receipt is October 23, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Diane Finver at Diane.Finver@trade.gov or (202) 482-1367.

Dated: September 5, 2017.
Andrew McGilvray,
Executive Secretary.

[FR Doc. 2017-19172 Filed 9-8-17; 8:45 am]

BILLING CODE 3510-DS-P